DEPARTMENT OF COMMERCE

International Trade Administration

[C-570-074]

Common Alloy Aluminum Sheet From the People's Republic of China: Final Results and Partial Rescission of Countervailing Duty Administrative Review; 2018-2019

AGENCY: Enforcement and Compliance, International Trade Administration, Department of Commerce.

SUMMARY: The Department of Commerce (Commerce) determines that countervailable subsidies are being provided to producers and exporters of common alloy aluminum sheet (aluminum sheet), from the People's Republic of China (China) during the period of review (POR) April 23, 2018, through December 31, 2019.

DATES: Applicable December 23, 2021.

FOR FURTHER INFORMATION CONTACT: Moses Song or Natasia Harrison, AD/CVD Operations, Office VI, Enforcement and Compliance, International Trade Administration, U.S. Department of Commerce, 1401 Constitution Avenue NW, Washington, DC 20230; telephone: (202) 482-7885 or (202) 482-1240, respectively.

SUPPLEMENTARY INFORMATION:

Background

Commerce published the Preliminary Results of this administrative review in the Federal Register on June 25, 2021, and invited interested parties to comment.¹ On July 26, 2021, we received timely case briefs from the following interested parties: Jiangsu Foil Aluminum Co. Ltd. (Jiangsu Alcha) ² and the Aluminum Association Common Alloy Aluminum Sheet Trade Enforcement Working Group (the domestic industry). On August 2, 2021, we received timely rebuttal briefs from Jiangsu Alcha and the domestic industry.

¹ See Common Alloy Aluminum Sheet from the People's Republic of China: Preliminary Results of Countervailing Duty Administrative Review, Rescission of Review, in Part, and Intent to Rescind, in Part; 2018-2019, 86 FR 33650 (June 25, 2021) (Preliminary Results), and accompanying Preliminary Decision Memorandum (PDM).

² Jiangsu Alcha and its cross owned companies include Alcha International Holdings Limited; Baotou Alcha Aluminum Co., Ltd.; and Jiangsu Alcha New Energy Materials Co., Ltd.

On October 14, 2021, Commerce extended the deadline for issuing the final results of this review by 55 days, until December 17, 2021.³

³ See Memorandum, “Common Alloy Aluminum Sheet from the People's Republic of China: Extension of Deadline for Final Results of Countervailing Duty Administrative Review; 04/23/2018-12/31/2019,” dated October 14, 2021.

Scope of the Order

The product covered by the order is aluminum sheet from China. A full description of the scope of the order is contained in the Issues and Decision Memorandum.⁴

⁴ See Memorandum, “Issues and Decision Memorandum for the Final Results of the Countervailing Duty Administrative Review of Common Alloy Aluminum Sheet from the People's Republic of China; 2018-2019,” dated concurrently with, and hereby adopted by, this notice (Issues and Decision Memorandum).

Analysis of Comments Received

All issues raised in interested parties' briefs are addressed in the Issues and Decision Memorandum accompanying this notice. A list of the issues raised by interested parties and to which Commerce responded in the Issues and Decision Memorandum is provided in the Appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on comments in case and rebuttal briefs and record evidence, Commerce made certain changes from the Preliminary Results with regard to the calculation of Jiangsu Alcha's program rates for the Government Provision of Electricity for Less than Adequate Remuneration (LTAR) program, Government Provision of Land for LTAR program, and Policy Loans to the Aluminum Sheet Industry. As a result of these changes to Jiangsu Alcha's program rates, the final total adverse facts available (AFA) rates for the Henan Mingtai Industrial Co., Ltd./Zhengzhou Mingtai Industry Co. (collectively, Mingtai) and Yong Jie New Material Co., Ltd. (Yong Jie New Material) (i.e., the non-cooperative mandatory respondents) also changed. These changes are explained in the Issues and Decision Memorandum.

Methodology

Commerce conducted this administrative review in accordance with section 751(a)(1)(A) of the Tariff Act of 1930, as amended (the Act). For each subsidy program found to be countervailable, Commerce finds that there is a subsidy, i.e., a financial contribution from a government or public entity that gives rise to a benefit to the recipient, and that the subsidy is specific.⁵ For a full description of the methodology underlying all of Commerce's conclusions, including any determination that relied upon the use of AFA pursuant to section 776(a) and (b) of the Act, see the Issues and Decision Memorandum.

⁵ See sections 771(5)(B) and (D) of the Act regarding financial contribution; section 771(5)(E) of the Act regarding benefit; and section 771(5A) of the Act regarding specificity.

Rescission of Administrative Review, in Part

It is Commerce's practice to rescind an administrative review of a countervailing duty order, pursuant to 19 CFR 351.213(d)(3), when there are no reviewable entries of subject merchandise during the POR for which liquidation is suspended.⁶ Normally, upon completion of an administrative review, the suspended entries are liquidated at the countervailing duty assessment rate calculated for the review period.⁷ Therefore, for an administrative review of a company to be conducted, there must be a reviewable, suspended entry that Commerce can instruct U.S. Customs and Border Protection (CBP) to liquidate at the calculated countervailing duty assessment rate calculated for the review period.⁸

⁶ See, e.g., Lightweight Thermal Paper from the People's Republic of China: Notice of Rescission of Countervailing Duty Administrative Review; 2015, 82 FR 14349 (March 20, 2017); and Circular Welded Carbon Quality Steel Pipe from the People's Republic of China: Rescission of Countervailing Duty Administrative Review; 2017, 84 FR 14650 (April 11, 2019).

⁷ See 19 CFR 351.212(b)(2).

⁸ See 19 CFR 351.213(d)(3).

As noted in the Preliminary Results, Commerce timely received no-shipment certifications from Teknik Aluminyum Sanayi A.S. and Companhia Brasileira De Aluminio. We inquired with U.S. Customs and Border Protection (CBP) as to whether these companies had shipped merchandise to the United States during the POR, and CBP provided no evidence to contradict the claims of no shipments made by these companies.⁹ Accordingly, in the Preliminary Results, Commerce stated its intention to rescind the review with respect to these companies in the final results. We continue to find these two companies had no shipments of the subject merchandise during the POR ¹⁰ and that three additional companies subject to this review did not have reviewable entries of subject merchandise during the POR for which liquidation is suspended.¹¹ Because there is no evidence on the record of this segment of the proceeding to indicate that these five companies had entries, exports, or sales of subject merchandise to the United States during the POR, we are rescinding this review with respect to these companies, consistent with 19 CFR 351.213(d)(3).

⁹ See Memorandum, “Common Alloy Aluminum Sheet from the People's Republic of China; No Shipment Inquiry for Teknik Aluminyum Sanayi A.S. and Companhia Brasileira de Aluminio during the period 04/23/2018 through 12/31/2019,” dated June 11, 2021.

¹⁰ See Memorandum, “Common Alloy Aluminum Sheet from the People's Republic of China; No Shipment Inquiry for Teknik Aluminyum Sanayi A.S. and Companhia Brasileira de Aluminio during the period 04/23/2018 through 12/31/2019,” dated June 11, 2021. These two companies are Teknik Aluminyum Sanayi A.S. and Companhia Brasileira De Aluminio.

¹¹ These three additional companies are: Choil Aluminum Co., Ltd.; PMS Metal Profil Aluminyum San. Ve Tic. A.S. Demirtas Organize Sanayi Bolgesi; and United Metal Coating LLC.

Companies Not Selected for Individual Review

The statute and Commerce's regulations do not address the establishment of a rate to be applied to companies not selected for examination when Commerce limits its examination in an administrative review pursuant to section 777A(c)(2) of the Act. Generally, Commerce looks to section 705(c)(5) of the Act, which provides instructions for determining the all-others rate in an investigation, for guidance when calculating the rate for companies which were not selected for individual examination in an administrative review. Under section 705(c)(5)(A) of the Act, the all-others rate is normally “an amount equal to the weighted average of the countervailable subsidy rates established for exporters and producers individually investigated, excluding any zero or de minimis countervailable subsidy rates, and any rates determined entirely {on the basis of facts available}.”

There is one company for which a review was requested, that had reviewable entries, and that was not selected for individual examination as a mandatory respondent or found to be cross-owned with a mandatory respondent. In these final results, the only rate that is not zero, de minimis, or based entirely on facts otherwise available is the rate calculated for Jiangsu Alcha. Consequently, as discussed above, the rate calculated for Jiangsu Alcha is also assigned as the rate for the producer/exporter subject to this review but not selected for individual examination (i.e., the non-selected company).¹²

¹² The domestic industry initially requested a review and did not subsequently withdraw its request for review of one company: Yinbang Clad Material Co., Ltd.

Final Results of Administrative Review

In accordance with 19 CFR 351.221(b)(5), Commerce calculated the following net countervailable subsidy rates for the period April 23, 2018, through December 31, 2019:

Company | Subsidy rate—2018 (percent ad valorem) | Subsidy rate—2019 (percent ad valorem)
Henan Mingtai Industrial Co., Ltd./Zhengzhou Mingtai Industry Co.¹³ | 277.35 | 277.35
Jiangsu Alcha Aluminum Co., Ltd.¹⁴ | 37.70 | 32.22
Yinbang Clad Material Co., Ltd.¹⁵ | 37.70 | 32.22
Yong Jie New Material Co., Ltd.¹⁶ | 277.35 | 277.35

Disclosure

¹³ This rate applies to Henan Mingtai Industrial Co., Ltd./Zhengzhou Mingtai Industry Co., and their cross-owned company: Henan Gongdian Thermal Co., Ltd. In the CVD investigation of aluminum sheet from China, we made this cross-ownership finding. See Common Alloy Aluminum Sheet from the People's Republic of China: Preliminary Affirmative Countervailing Duty Determination, Alignment of Final CVD Determination With Final Antidumping Duty Determination, and Preliminary CVD Determination of Critical Circumstances, 83 FR 17651 (April 23, 2018), and accompanying Preliminary Decision Memorandum, unchanged in Countervailing Duty Investigation of Common Alloy Aluminum Sheet from the People's Republic of China: Final Affirmative Determination, 83 FR 57427 (November 15, 2018), and accompanying Issues and Decision Memorandum (collectively, Aluminum Sheet from China Investigation). Accordingly, the subject merchandise that was produced/exported by these companies entered under a single CBP case number during the period of review.

¹⁴ This rate applies to Jiangsu Alcha and its cross-owned companies.

¹⁵ Yinbang Clad Material Co., Ltd. was not individually examined during the POR and, therefore, has received the non-selected company rate.

¹⁶ This rate applies to Yong Jie New Material Co., Ltd. and its cross-owned companies: Nanjie Resources Co., Ltd.; Shejiang Nanjie Industry Co., Ltd, Zhejiang Yongjie Aluminum Co., Ltd. also known as Zhejiang Yong Jie Aluminum Co., Ltd., and Zhejiang Yongjie Holding Co., Ltd. In the Aluminum Sheet from China Investigation, we made this cross-ownership finding. Accordingly, the subject merchandise that was produced/exported by these companies entered under a single CBP case number during the POR.

Commerce will disclose to the parties in this proceeding the calculations performed for these final results within five days of the date of publication of this notice in the Federal Register.¹⁷

¹⁷ See 19 CFR 351.224(b).

Assessment Rates

Pursuant to section 751(a)(2)(C) of the Act and 19 CFR 351.212(b)(2), Commerce will determine, CBP shall assess, countervailing duties on all appropriate entries of subject merchandise covered by this review. We intend to issue assessment instructions to CBP 35 days after the date of publication of these final results of review. If a timely summons is filed at the U.S. Court of International Trade, the assessment instructions will direct CBP not to liquidate relevant entries until the time for parties to file a request for a statutory injunction has expired (i.e., within 90 days of publication).

For the companies for which this review is rescinded, Commerce will instruct CBP to assess countervailing duties on all appropriate entries at a rate equal to the cash deposit of estimated countervailing duties required at the time of entry, or withdrawal from warehouse, for consumption, during the POR in accordance with 19 CFR 351.212(c)(l)(i).

Cash Deposit Instructions

In accordance with section 751(a)(1) of the Act, Commerce intends to instruct CBP to collect cash deposits of estimated countervailing duties in the amounts shown for each of the respective companies listed above on shipments of subject merchandise entered, or withdrawn from warehouse, for consumption on or after the date of publication of the final results of this administrative review. For all non-reviewed firms subject to the order, we will instruct CBP to continue to collect cash deposits of estimated countervailing duties at the most recent company-specific or all-others rate applicable to the company, as appropriate. These cash deposit requirements, effective upon publication of these final results, shall remain in effect until further notice.

Administrative Protective Order

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

Commerce is issuing and publishing these results in accordance with sections 751(a)(1) and 777(i)(1) of the Act.

Dated: December 17, 2021.
Ryan Majerus,
Deputy Assistant Secretary for Policy and Negotiations, Performing the Non-Exclusive Functions and Duties of the Assistant Secretary Enforcement and Compliance.

Appendix

List of Topics Discussed in the Issues and Decision Memorandum

I. Summary

II. List of Issues

III. Background

IV. Changes Since the Preliminary Results

V. Scope of the Order

VI. Rescission of the Administrative Review, In Part

VII. Non-Selected Companies Under Review

VIII. Subsidies Valuation Information

IX. Interest Rates, Discount Rates, and Benchmarks

X. Use of Facts Otherwise Available and Application of Adverse Inferences

XI. Analysis of Programs

XII. Analysis of Comments

Comment 1: Should Apply Adverse Facts Available to the Export Buyer's Credit Program

Comment 2: Whether Jiangsu Foil Aluminum Co. Ltd. is Cross-Owned with Changshu Aluminum Foil Factory Co., Ltd.

Comment 3: Whether Commerce Should Determine the Benefit from the Provision of Electricity for Less Than Adequate Remuneration by Reference to Benchmark Rates Placed on the Record

Comment 4: Whether Commerce Should Adjust Its Benefit Calculation for the Government Provision of Land for Less Than Adequate Remuneration

Comment 5: Whether Commerce Should Apply Partial Adverse Facts Available to Revise Its Preliminary Calculations for Policy Loans to the Aluminum Sheet Industry

Comment 6: Whether Commerce Should Include Purchases of a Certain Aluminum Input in the Benefit Calculation for the Government Provision of Primary Aluminum for Less Than Adequate Remuneration

Comment 7: Whether Commerce Used the Correct Benchmark to Value Purchases of Primary Aluminum

XIII. Recommendation

[FR Doc. 2021-27893 Filed 12-22-21; 8:45 am]

BILLING CODE 3510-DS-P